ENVIRONMENTAL PROTECTION AGENCY

40 CFR Part 271 and 272

[EPA-R06-RCRA-2016-0549; FRL-9993-44-Region 6]

Texas: Proposed Authorization of State-Initiated Changes and Incorporation by Reference of State Hazardous Waste Management Program

AGENCY: Environmental Protection Agency (EPA).

ACTION: Proposed rule; reopening of comment period.

SUMMARY: On October 24, 2018, the Environmental Protection Agency (EPA) published a proposed rule and provided for a thirty-day public comment period. The public comment period closed on November 23, 2018 and EPA received three comments. The purpose of this document is to reopen the comment period for an additional 30 days. This extension of the comment period is provided to allow the public additional time to provide comment on the October 24, 2018 proposed rule. All comments submitted during the original comment period as well those submitted during this extension of the comment period will be accepted and considered.

DATES: Comments on this proposed rule must be received by August 9, 2019.

ADDRESSES: Submit your comments by one of the following methods:

• Federal eRulemaking Portal: http://www.regulations.gov. Follow the on-line instructions for submitting comments.

• Email: jones.bruced@epa.gov or patterson.alima@epa.gov.

• Fax: (214) 665-6762 (prior to faxing, please notify Alima Patterson at (214) 665-8533).

• Mail: Alima Patterson, Regional Authorization/Codification Coordinator, RCRA Permit Section (LCR-RP), Land, Chemicals and Redevelopment Division, EPA Region 6, 1201 Elm Street, Suite 500, Dallas, Texas 75270.

• Hand Delivery or Courier: Deliver your comments to Alima Patterson, Regional Authorization/Codification Coordinator, RCRA Permit Section (LCR-RP), Land, Chemicals and Redevelopment Division, EPA Region 6, 1201 Elm Street, Suite 500, Dallas, Texas 75270

Instructions: EPA must receive your comments by August 9, 2019. Direct your comments to Docket ID Number EPA-R06-RCRA-2016-0549. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov, or email. The Federal http://www.regulations.gov website is an “anonymous access” system, which means the EPA will not know your identity or contact information unless you provide it in the body of your comment. If you send an email comment directly to the EPA without going through regulations.gov, your email address will be automatically captured and included as part of the comment that is placed in the public docket and made available on the internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. (For additional information about the EPA's public docket, visit the EPA Docket Center homepage at https://www.epa.gov/dockets/commenting-epa-dockets.)

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov, or in hard copy. You may view and copy the documents that form the basis for this authorization and codification and associated publicly available materials from 8:30 a.m. to 4 p.m. Monday through Friday at the following location: EPA, Region 6, 1201 Elm Street Suite 500, Dallas, Texas 75270, contact: Alima Patterson, phone number: (214) 665-8533. Interested persons wanting to examine these documents in person should contact Ms. Patterson to make an appointment.

FOR FURTHER INFORMATION CONTACT: Bruce Jones, Office of Regional Counsel (ORC), (214) 665-3184 and Email address jones.bruced@epa.gov; or Alima Patterson, Regional Authorization/Codification Coordinator, Permit Section (LCR-RP), Land, Chemical and Redevelopment (214) 665-8533 and Email address patterson.alima@epa.gov; EPA Region 6, 1201 Elms, Suite 500, Dallas, Texas 75202-2733.

SUPPLEMENTARY INFORMATION: On October 24, 2018 (83 FR 53595), the EPA published a Proposed Rule to approve state-initiated changes and incorporation by reference of the State of Texas hazardous waste program under (RCRA). EPA is reopening the comment period due to a comment noting the public needed additional time to comment and that some items were not in the docket on www.regulations.gov. EPA has now put these documents into the docket identified by Docket ID EPA-R06-RCRA-2016-0549 at www.regulations.gov and provided this additional comment period.

List of Subjects

40 CFR Part 271

Environmental protection, Administrative practice and procedure, Confidential business information, Hazardous waste, transportation, Indian lands, Intergovernmental relations, Penalties, Reporting and recordkeeping requirements.

40 CFR Part 272

Environmental protection, Hazardous materials transportation, Hazardous waste, Incorporation by reference, Intergovernmental relations, Water pollution control, Water supply.

Authority: This document is issued under the authority of Sections 2002(a), 3006 and 7004(b) of the Solid Waste Disposal Act as amended 42 U.S.C. 6912(a), 6926, 6974(b).

Dated: June 28, 2019.
David Gray,
Acting Regional Administrator, Region 6.

[FR Doc. 2019-14422 Filed 7-9-19; 8:45 am]

BILLING CODE 6560-50-P